DEPARTMENT OF THE TREASURY

Submission for OMB Review; Comment Request

September 22, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW. Washington, DC 20220.

DATES: Written comments should be received on or before November 3, 2008 to be assured of consideration.

Internal Revenue Service (IRS)

OMB Number: 1545-2099.

Type of Review: Extension.

Title: Excise Tax on Certain Transfers of Qualifying Geothermal or Mineral Interests.

Forms: 8924.

Description: Form 8924, Excise Tax on Certain Transfers of Qualifying Geothermal or Mineral Interests, is required by Section 403 of the Tax Relief and Health Care Act of 2006 which imposes an excise tax on certain transfers of qualifying mineral or geothermal interests.

Respondents: Businesses or other for-profit institutions.

Estimated Total Burden Hours: 555 hours.

OMB Number: 1545-1073.

Type of Review: Extension.

Title: Credit for Prior Year Minimum Tax—Individuals, Estates and Trusts.

Forms: 8801.

Description: Form 8801 is used by individuals, estates, and trusts to compute the minimum tax credit, if any, available from a tax year beginning after 1986 to be used in the current year or to be carried forward for use in a future year.

Respondents: Individuals or Households.

Estimated Total Burden Hours: 89,107 hours.

OMB Number: 1545-1498.

Type of Review: Extension.

Title: REG-209826-96 (NPRM) Application of the Grantor Trust Rules to Nonexempt Employees' Trusts.

Description: The regulations provide rules for the application of the grantor trust rules to certain nonexempt employees' trusts. Taxpayers must indicate on a return that they are relying on a special rule to reduce the overfunded amount of the trust.

Respondents: Businesses or other for-profit institutions.

Estimated Total Burden Hours: 1,000 hours.

OMB Number: 1545-0090.

Type of Review: Revision.

Title: Form 1040-SS, U.S. Self-Employment Tax Return; Form 1040-PR, Planilla Para La Declaracion De La Contribucion Federal Sobre El Trabajo Por Cuenta Propia—Puerto Rico; and Anejo H-PR.

Forms: 1040-SS, 1040-PR, Anexo H-PR.

Description: Form 1040-S (Virgin Islands, Guam, American Samoa, and the Northern Mariana Islands) and 1040-PR (Puerto Rico) are used by self-employed individuals to figure and report self-employment tax under IRC chapter 2 of Subtitle A, and provide credit to the taxpayer's social security account. Anejo H-PR is used to compute household employment taxes. Form 1040-SS and Form 1040-PR are also used by bona-fide residents of Puerto Rico to claim the additional child tax credit.

Respondents: Individuals or Households.

Estimated Total Burden Hours: 2,880,460 hours.

OMB Number: 1545-1796.

Type of Review: Extension.

Title: REG-106879-00 (Final) Consolidated Loss Recapture Events.

Description: This document contains final regulations under section 1503(d) regarding the events that require the recapture of dual consolidated losses. These regulations are issued to facilitate compliance by taxpayers with the dual consolidated loss provisions. The regulations generally provide that certain events will not trigger recapture of a dual consolidated loss or payment of the associated interest charge. The regulations provide for the filing of certain agreements in such cases. This document also makes clarifying and conforming changes to the current regulations.

Respondents: Businesses or other for-profit institutions.

Estimated Total Burden Hours: 60 hours.

OMB Number: 1545-1935.

Type of Review: Extension.

Title: Notice 2005-40, election to defer net experience loss in a multiemployer plan.

Description: This notice describes the election that must be filed by an eligible multiemployer plan's enrolled actuary to the Service in order to defer a net experience loss. The notice also describes the notification that must be given to plan participants and beneficiaries, to labor organizations, to contributing employers and to the Pension Benefit Guaranty Corporation within 30 days of making an election with the Service and the certification that must be filed if a restricted amendment is adopted.

Respondents: Businesses or other for-profit institutions.

Estimated Total Burden Hours: 960 hours.

OMB Number: 1545-0714.

Type of Review: Extension.

Title: Employers Annual Information Return of Tip Income and Allocated Tips (Form 8027); Transmittal of Employer's Annual Information Return of Tip Income and Allocated Tips (Form 8027-T).

Forms: 8027, 8027-T.

Description: To help IRS in its examination of returns filed by tipped employees large food or beverage establishments are required to report annually information concerning food or beverage operations receipts, tips, reported by employees, and in certain cases, the employer must allocate tips to certain employees.

Respondents: Businesses or other for-profit institutions.

Estimated Total Burden Hours: 488,161 hours.

OMB Number: 1545-1675.

Type of Review: Extension.

Title: REG-122450-98 (Final) Real Estate Mortgage Investment Conduits; REG-100276-97; REG-122450-98 (NPRM) Financial Asset Securitization Investment Trusts; Real Estate Mortgage Investment (TD 9004).

Description: REG-122450-98 Sections 1.860E-1(c)(4)-(10) of the Treasury Regulations provide circumstances under which a transferor of a noneconomic residual interest in a Real Estate Mortgage Investment Conduit (REMIC) meeting the investigation, and two representation requirements may avail itself of the safe harbor by satisfying either the formula test or asset test. REG-100276-97; REG-122450-98 This regulation provides start-up and transitional rules applicable to financial asset securitization investment trust.

Respondents: Businesses or other for-profit institutions.

Estimated Total Burden Hours: 1,220 hours.

OMB Number: 1545-0619.

Type of Review: Extension.

Title: Credit for Increasing Research Activities.

Forms: 6765.

Description: IRC section 38 allows a credit against income tax (determined under IRC section 41) for an increase in research activities in a trade or business. Form 6765 is used by businesses individuals engaged in a trade or business to figure and report the credit. The data is used to verify that the credit claimed is correct.

Respondents: Businesses or other for-profit institutions.

Estimated Total Burden Hours: 338,227 hours.

OMB Number: 1545-1218.

Type of Review: Extension.

Title: CO-25-96 (TD 8824—Final) Regulations Under Section 1502 of the Internal Revenue Code of 1986; Limitations on Net Operating Loss Carryforwards and Certain Built-in Losses and Credits Following.

Description: Section 1502 provides for the promulgation of regulations with respect to corporations that file consolidated income tax returns. Section 382 limits the amount of income that can be offset by loss carryovers and credits after an ownership change. These final regulations provide rules for applying section 382 to groups of corporations that file a consolidated return.

Respondents: Businesses or other for-profit institutions.

Estimated Total Burden Hours: 662 hours.

OMB Number: 1545-1518.

Type of Review: Extension.

Title: HSA, Archer MSA, or Medicare Advantage MSA Information.

Forms: 5498-SA.

Description: Section 220(h) requires trustees to report to the IRS and medical savings accountholders contributions to and the year-end fair market value of any contributions made to a medical savings account (MSA). Congress requires Treasury to report to them the total contributions made to an MSA for the current tax year. Section 1201 of the Medicare prescription Drug, Improvement, and Modernization Act of 2003 (P.L. 108-173) created new Code section 223. Section 223(h) requires the reporting of contributions to and the year-end fair market value of health savings accounts for tax years beginning after December 31, 2003.

Respondents: Businesses or other for-profit institutions.

Estimated Total Burden Hours: 6,988 hours.

OMB Number: 1545-1424.

Type of Review: Revision.

Title: Cancellation of Debt.

Forms: 1099-C.

Description: Form 1099-C is used for reporting canceled debt, as required by section 6050P of the Internal Revenue Code. It is used to verify that debtors are correctly reporting their income.

Respondents: Businesses or other for-profit institutions.

Estimated Total Burden Hours: 102,939 hours.

OMB Number: 1545-1492.

Type of Review: Extension.

Title: Request for Closing Agreement Relating to Advance Refunding Issue Under Sections 148 and 7121 and Revenue Procedure 96-41.

Forms: 10001.

Description: Form 10001 is used in conjunction with a closing agreement program involving certain issuers of tax-exempt advance refunding bonds. Revenue Procedure 96-41 established this voluntary compliance program and prescribed the filing of Form 10001 to request a closing agreement.

Respondents: State, local, and Tribal Governments.

Estimated Total Burden Hours: 300 hours.

OMB Number: 1545-0184.

Type of Review: Extension.

Title: Sales of Business Property.

Forms: 4797.

Description: Form 4797 is used by taxpayers to report sales, exchanges, or involuntary conversion of assets, other than capital assets, and involuntary conversion of capital assets held more than one year. It is also used to compute ordinary income from recapture and the recapture of prior year section 1231 losses.

Respondents: Individuals or Households.

Estimated Total Burden Hours: 100,633,248 hours.

OMB Number: 1545-0120.

Type of Review: Extension.

Title: Certain Government Payments.

Forms: 1099-G.

Description: Form 1099-G is used by governments (primarily state and local) to report to the IRS (and notify recipients of) certain payments (e.g., unemployment compensation and income tax refunds). IRS uses the information to insure that the income is being properly reported by the recipients on their returns.

Respondents: Federal Government.

Estimated Total Burden Hours: 12,200,000 hours.

OMB Number: 1545-1091.

Type of Review: Extension.

Title: Corporate Passive Activity Loss and Credit Limitations.

Forms: 8810.

Description: Under section 469, losses and credits from passive activities, to the extent they exceed passive income (or, in the case of credits, the tax attributable to met passive income), are not allowed. Form 8810 is used by personal service corporations and closely held corporations to figure the passive activity loss and credits allowed and the amount of loss and credit to be reported on their tax return.

Respondents: Businesses or other for-profit institutions.

Estimated Total Burden Hours: 3,749,000 hours.

OMB Number: 1545-1012.

Type of Review: Extension.

Title: Salary Reduction Simplified Employee Pension-Individual Retirement Accounts Contribution Agreement.

Forms: FORM-5305A-SEP.

Description: Form 5305-A-SEP is used by an employer to make an agreement to provide benefits to all employees under a salary reduction Simplified Employee Pension (SEP) described in section 408(k). This form is not to be filed with IRS, but is to be retained in the employer's records as proof of establishing such a plan, thereby justifying a deduction for contributions made to the SEP. The data is used to verify the deduction.

Respondents: Businesses or other for-profit institutions.

Estimated Total Burden Hours: 972,000 hours.

OMB Number: 1545-0928.

Type of Review: Extension.

Title: REG-124667-02 (Final) Disclosure of Relative Values of Optional Forms of Benefit; EE-35-85 (Final) Income Tax: Taxable Years Beginning After December 31, 1953; OMB Control Number Under The.

Description: These final regulations are required by statute and must be provided by employers to retirement plan participants to inform participants of their rights under the plan or under the law. Failure to timely notify participant of their rights may result in loss of plan benefits.

Respondents: Businesses or other for-profit institutions.

Estimated Total Burden Hours: 385,000 hours.

OMB Number: 1545-0967.

Type of Review: Extension.

Title: U.S. Estate or Trust Income Tax Declaration and Signature for Electronic and Magnetic Media Filing.

Forms: 8879-F, 8453-F.

Description: This form is used to secure taxpayer signatures and declarations in conjunction with electronic and magnetic media filing of trust and fiduciary income tax returns. This form, together with the electronic and magnetic media transmission, will comprise the taxpayer's income tax return (Form 1041).

Respondents: Businesses or other for-profit institutions.

Estimated Total Burden Hours: 1,750 hours.

OMB Number: 1545-0238.

Type of Review: Extension.

Title: Certain Gambling Winnings.

Forms: W-2G.

Description: IRC section 6041 requires payers of certain gambling winnings to report them to IRS. If applicable, section 3402(g) and section 3406 require tax withholding on these winnings. We use the information to ensure taxpayer income reporting compliance.

Respondents: Businesses or other for-profit institutions.

Estimated Total Burden Hours: 1,272,479 hours.

OMB Number: 1545-1008.

Type of Review: Extension.

Title: Passive Activity Loss Limitations.

Forms: 8582.

Description: Under Internal Revenue Code section 469, losses from passive activities, to the extent that they exceed income from passive activities, cannot be deducted against nonpassive income. Form 8582 is used to figure the passive activity loss allowed and the loss to be reported on the tax return.

Respondents: Businesses or other for-profit institutions.

Estimated Total Burden Hours: 11,373,963 hours.

OMB Number: 1545-1150.

Type of Review: Revision.

Title: Short Form Return of Organization Exempt From Income Tax.

Forms: 990-EZ, Schedule A (Form 990 or 990-EZ), Schedule B (Form 990, 990-EZ or 990-PF), Schedule C (Form 990 or 990-EZ), Schedule E (Form 990 or 990-EZ), Schedule G (Form 990 or 990-EZ), Schedule L (Form 990 or 990-EZ), Schedule N (Form 990 or 990-EZ).

Description: Form 990-EZ is needed to determine that IRS section 501(a) tax-exempt organizations fulfill the operating conditions within the limitations of their tax exemption. IRS uses the information from this form to determine if the filers are operating within the rules of their exemption.

Respondents: Not-for-profit institutions.

Estimated Total Burden Hours: 43,656,636 hours.

OMB Number: 1545-1257.

Type of Review: Extension.

Title: Credit for Prior Year Minimum Tax—Corporations.

Forms: 8827.

Description: Section 53(d), as revised, allows corporations a minimum tax credit based on the full amount of alternative minimum tax incurred in tax years beginning after 1989, or a carryforward for use in a future year.

Respondents: Businesses or other for-profit institutions.

Estimated Total Burden Hours: 25,000 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E8-23179 Filed 10-1-08; 8:45 am]

BILLING CODE 4830-01-P